DEPARTMENT OF STATE

[Public Notice 5016]

Secretary of State's Advisory Committee on Private International Law: Notice of Meeting

SUMMARY: There will be a public meeting of the Study Group on Enforcement of Judgments of the Secretary of State's Advisory Committee on Private International Law, from 2 pm to 6 pm on Tuesday March 29 at the new headquarters of the U.S. Patent & Trademark Office: Henry Remsen Building, 400 Dulany Street, Conference Center (Lobby Level), Alexandria, VA 22313-1450.

Full Text: The Department of State, in conjunction with the U.S. Patent and Trademark Office and other Federal agencies, is convening a meeting of the Secretary of State's Advisory Committee on Private International Law, Study Group on Enforcement of Judgments, in order to seek consultations on the proposed draft Hague Convention on Exclusive Choice of Court Agreements. The draft Convention will be considered at the 20th Diplomatic Session of the Hague Conference on Private International Law, June 14-30, 2005, and is expected to be adopted and opened for signature at that time.

The meeting of the Advisory Committee will bring experts from industry, trade associations, bar associations, non-governmental associations, and other interested parties to consider in more detail those aspects of the draft convention that bear on intellectual property rights and related litigation, in order to assist the U.S. delegation prepare for the Diplomatic Conference. The current draft of the proposed convention may be found on the Web site of the Hague Conference (http://www.hcch.net).

The meeting will be held from 2 pm to 6 pm on Tuesday March 29, at the new headquarters of the U.S. Patent & Trademark Office: Henry Remsen Building, 400 Dulany Street, Conference Center (Lobby Level), Alexandria, VA 22313-1450. The meeting is open to the public up to the capacity of the meeting room. Interested persons are invited to attend and to express their views. Persons who wish to have their views considered are encouraged, but not required, to submit written comments in advance of the meeting. Written comments should be submitted by e-mail to Jeffrey Kovar at kovarjd@state.gov. All comments will be made available to the public by request to Mr. Kovar via e-mail or by phone (202-776-8420).

Persons wishing to attend must notify Ms. Cherise Reid by e-mail (reidcd@state.gov), fax (202-776-8482), or by telephone (202-776-8420).

Dated: March 8, 2005.
Jeffrey D. Kovar,
Assistant Legal Adviser for Private International Law, Department of State.

[FR Doc. 05-5067 Filed 3-14-05; 8:45 am]

BILLING CODE 4710-08-P